DEPARTMENT OF THE INTERIOR

National Park Service

[NPS-WASO-NAGPRA-NPS0037825; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh has completed an inventory of human remains and associated funerary objects and has determined that there is a cultural affiliation between the human remains and associated funerary objects and Indian Tribes or Native Hawaiian organizations in this notice.

DATES: Repatriation of the human remains and associated funerary objects in this notice may occur on or after May 31, 2024.

ADDRESSES: Adrienne Frie, University of Wisconsin Oshkosh, 800 Algoma Boulevard, Oshkosh, WI 54901, telephone (920) 424-1365, email friea@uwosh.edu.

SUPPLEMENTARY INFORMATION: This notice is published as part of the National Park Service's administrative responsibilities under NAGPRA. The determinations in this notice are the sole responsibility of the University of Wisconsin Oshkosh, and additional information on the determinations in this notice, including the results of consultation, can be found in the inventory or related records. The National Park Service is not responsible for the determinations in this notice.

Abstract of Information Available

Based on the information available, human remains representing, at least, one individual (UnprovBurial1_UNKNO) have been reasonably identified. The individual was removed from an unknown geographic location in Wisconsin. There are no records indicating when or how this individual came into the possession of the Archaeology Collection at the University of Wisconsin Oshkosh. The outside of the original storage box was labeled “human burial, Wisconsin (?),” according to the University of Oshkosh Culturally Unidentifiable NAGPRA Inventory, which was submitted in 1995. A note in the box reads “Femur found in trunk at Doty Cabin—no other prov. Deer bone found under driveway in my neighbor's yard.” The deer bone does not seem to have been originally associated with the human remains. There are no records of this acquisition from the Doty Cabin Museum. No associated funerary objects are present.

Based on the information available, human remains representing, at least, 13 individuals (UnprovBurial2_UNKNO) have been reasonably identified. The individuals were removed from an unknown geographic location, WI. There is no known collection history for these individuals, however, they were described as “Unprovenienced Burial #2” in the University of Wisconsin Oshkosh Culturally Unidentifiable NAGPRA Inventory, which was submitted in 1995. According to this Inventory, the outside of the original storage box had been labeled “human burial, Wisconsin (?)”. The six associated funerary objects are one deer antler; one fragment of an ungulate metapodial; one snake vertebra; one rodent incisor; one lot of gastropod shells and shell fragments; and one lot of soil matrix.

Based on the information available, human remains representing, at least, three individuals (UnprovBurial3_UNKNO) have been reasonably identified. The individuals were removed from an unknown geographic location in Wisconsin. No information was found regarding the provenience of this burial. Jeff Behm, an archaeologist with the University of Wisconsin Oshkosh, noted that the human remains were housed at the University for as long as he'd been employed (since 1985). The box label and the history of the collections at the University of Wisconsin Oshkosh provides a preponderance of evidence that this individual was removed from somewhere in the state of Wisconsin. No associated funerary objects are present.

Based on the information available, human remains representing, at least, one individual (Unprov004_REHWIN) have been reasonably identified. The individual was removed from an unknown geographic location in Wisconsin. On February 16, 1976, the individual was donated to the University of Wisconsin Oshkosh by John Rehwinkel, according to writing present on the individual. Based on Rehwinkel's residence and avocational archaeology in Wisconsin, the remains are thought to originate from the state. No associated funerary objects are present.

Based on the information available, human remains representing, at least, two individuals (UnprovBurial5_UNKNO) have been reasonably identified. The individuals were removed from an unknown geographic location in Wisconsin. The University of Wisconsin Oshkosh does not have any records related to this collection except what was reported in the Culturally Unidentifiable NAGPRA Inventory, which was submitted in 1995. In that Inventory, the collection was reported as “Unprovenienced Burial Number 5” with an MNI of one individual, as well as “the apparent association with a flake of Hixton silicified sandstone strongly supports a Wisconsin, or at least Upper Midwest provenience”. The outside of the original storage box had simply been labeled “human burial, Wisconsin (?)”. Based on this evidence, the University of Wisconsin Oshkosh concluded that these individuals were likely removed from Wisconsin. The seven associated funerary objects are one silicified sandstone flake; one cow rib fragment; one lot of incisors from a large ungulate; two large mammal long bone shaft fragments; one large mammal long bone fragment; and one large burnt mammal bone fragment.

Based on the information available, human remains representing, at least, one individual (UnprovStateWI001_UNKNO) have been reasonably identified. The individual was removed from an unknown geographic location in Wisconsin. There are no records indicating when or how this individual came into the possession of the University of Wisconsin Oshkosh. The box label read “Unprovenienced Burial Wisconsin?”. The box label and the history of the collections at the University provides a preponderance of evidence that this individual was removed from somewhere in the state of Wisconsin. No associated funerary objects are present.

The University of Wisconsin Oshkosh has no record of any potentially hazardous substances being used to treat the human remains or associated funerary objects described in this notice.

Cultural Affiliation

Based on the information available and the results of consultation, cultural affiliation is reasonably identified by the geographical location of the human remains and associated funerary objects described in this notice.

Determinations

The University of Wisconsin Oshkosh has determined that:

• The human remains described in this notice represent the physical remains of 21 individuals of Native American ancestry.

• The 13 objects described in this notice are reasonably believed to have been placed intentionally with or near individual human remains at the time of death or later as part of the death rite or ceremony.

• There is a reasonable connection between the human remains and associated funerary objects described in this notice and the Assiniboine and Sioux Tribes of the Fort Peck Indian Reservation, Montana; Bad River Band of the Lake Superior Tribe of Chippewa Indians of the Bad River Reservation, Wisconsin; Bay Mills Indian Community, Michigan; Cayuga Nation; Cheyenne River Sioux Tribe of the Cheyenne River Reservation, South Dakota; Chippewa Cree Indians of the Rocky Boy's Reservation, Montana; Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Ho-Chunk Nation of Wisconsin; Iowa Tribe of Kansas and Nebraska; Iowa Tribe of Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Oglala Sioux Tribe; Oneida Indian Nation; Oneida Nation; Onondaga Nation; Otoe-Missouria Tribe of Indians, Oklahoma; Ottawa Tribe of Oklahoma; Peoria Tribe of Indians of Oklahoma; Pokagon Band of Potawatomi Indians, Michigan and Indiana; Prairie Band Potawatomi Nation; Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Saint Regis Mohawk Tribe; Santee Sioux Nation, Nebraska; Sault Ste. Marie Tribe of Chippewa Indians, Michigan; Seneca Nation of Indians; Seneca-Cayuga Nation; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; Stockbridge Munsee Community, Wisconsin; The Osage Nation; Tonawanda Band of Seneca; Turtle Mountain Band of Chippewa Indians of North Dakota; Tuscarora Nation; Upper Sioux Community, Minnesota; Winnebago Tribe of Nebraska; and the Yankton Sioux Tribe of South Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 31, 2024. If competing requests for repatriation are received, the University of Wisconsin Oshkosh must determine the most appropriate requestor prior to repatriation. Requests for joint repatriation of the human remains and associated funerary objects are considered a single request and not competing requests. The University of Wisconsin Oshkosh is responsible for sending a copy of this notice to the Indian Tribes and Native Hawaiian organizations identified in this notice.

Authority: Native American Graves Protection and Repatriation Act, 25 U.S.C. 3003, and the implementing regulations, 43 CFR 10.10.

Dated: April 23, 2024.
Melanie O'Brien,
Manager, National NAGPRA Program.

[FR Doc. 2024-09399 Filed 4-30-24; 8:45 am]

BILLING CODE 4312-52-P